COMMODITY FUTURES TRADING COMMISSION

Sunshine Act Meetings

Time and Date: 11 a.m., Friday, September 10, 2004.

Place: 1155 21st St., NW., Washington, DC, 9th Floor Commission Conference Room.

Status: Closed.

Matters To Be Considered: Surveillance matters.

Contact Person for More Information: Jean A. Webb, (202) 418-5100.

Jean A. Webb,
Secretary of the Commission.

[FR Doc. 04-19039 Filed 8-16-04; 2:00 pm]

BILLING CODE 6351-01-M